ENVIRONMENTAL PROTECTION AGENCY

[FRL-8709-1]

National Environmental Justice Advisory Council; Notification of Public Meeting and Public Comment

AGENCY: Environmental Protection Agency.

ACTION: Notice.

SUMMARY: Pursuant to the Federal Advisory Committee Act (FACA), Public Law 92-463, the U.S. Environmental Protection Agency (EPA) hereby provides notice that the National Environmental Justice Advisory Council (NEJAC) will convene a meeting on the date and time described below. All meetings are open to the public. Members of the public are encouraged to provide comments relevant to the specific issues being considered by the NEJAC. For additional information about registering for public comment, please see SUPPLEMENTARY INFORMATION.

DATES: The NEJAC will convene an open meeting via teleconference call on Thursday, September 11, 2008, from 2 p.m. to 4 p.m. (all times noted are Eastern Time). Due to limited telephone lines, all members of the public who wish to attend the teleconference meeting or to provide public comment must register in advance, no later than Monday, September 8, 2008.

ADDRESSES: Because this meeting will be held via teleconference call, there is no physical location where members of the public can listen in. To attend, you must register in advance. See FOR FURTHER INFORMATION CONTACT section below.

FOR FURTHER INFORMATION CONTACT: Pre-registration for all attendees is required. Because this meeting is conducted via teleconference call, online registrations will not be accepted. Rather, requests should be sent to Ms. Julianne Pardi of ICF International at: 33 Hayden Avenue, 3rd Floor, Lexington, MA 02421; Telephone: (781) 676-4010; E-mail: jpardi@icfi.com, or FAX: (781) 676-4005. Please provide name, organization, and telephone number for follow-up as necessary.

Correspondence concerning the meeting should be sent to Ms. Victoria Robinson, NEJAC Program Manager, U.S. Environmental Protection Agency, at 1200 Pennsylvania Avenue, NW., (MC2201A), Washington, DC 20460; via e-mail at environmental-justice-epa@epa.gov; by telephone at (202) 564-6349; or by FAX at (202) 564-1624. Additional information about the meeting is available at the Internet Web site: http://www.epa.gov/compliance/environmentaljustice/nejac/meetings.html.

SUPPLEMENTARY INFORMATION: The Charter of the NEJAC states that the advisory committee shall provide independent advice to the Administrator on areas that may include, among other things, “advice about EPA's progress, quality and adequacy in planning, developing and implementing environmental justice strategies, projects and programs” relating to environmental justice. The purpose of the teleconference meeting is to review progress made by the Goods Movement Work Group and the State Environmental Justice Grant Program Work Group.

Public Comment: Individuals or groups making oral presentations during the public comment period will be limited to a total time of five minutes. Only one representative of a community, an organization, or a group will be allowed to speak. Any number of written comments can be submitted for the record. The suggested format for individuals making public comment should be as follows: Name of Speaker, Name of Organization/Community, Address/Telephone/E-mail, Description of Concern and its relationship to the policy issue(s), and Recommendations or desired outcome. Written comments received by September 8, 2008, will be included in the materials distributed to the members of the NEJAC. Written comments received after that date will be provided to the NEJAC as logistics allow. All information should be sent to the address, e-mail, or fax number listed in the FOR FURTHER INFORMATION CONTACT section above.

Information About Services for the Handicapped: Individuals requiring accommodations for a disability should contact Ms. Julianne Pardi by September 8, 2008, so that appropriate arrangements can be made to facilitate their participation. For information about services for the disabled or to request special assistance at the meeting, contact Ms. Pardi as soon as possible. All requests should be sent to the address, e-mail, or fax number listed in the FOR FURTHER INFORMATION CONTACT section above.

Dated: August 21, 2008.
Charles Lee,
Designated Federal Officer, National Environmental Justice Advisory Council.

[FR Doc. E8-19862 Filed 8-26-08; 8:45 am]

BILLING CODE 6560-50-P